DEPARTMENT OF COMMERCE

International Trade Administration

[A-533-810]

Stainless Steel Bar From India: Extension of Time Limit for the Preliminary Results of the Antidumping Duty Administrative Review

AGENCY: Import Administration, International Trade Administration, Department of Commerce.

DATES: Effective Date: October 29, 2009.

FOR FURTHER INFORMATION CONTACT: Seth Isenberg, AD/CVD Operations, Office 1, Import Administration, International Trade Administration, U.S. Department of Commerce, 14th Street and Constitution Avenue, NW., Washington, DC 20230; telephone (202) 482-0588.

SUPPLEMENTARY INFORMATION:

Background

On March 24, 2009, the Department of Commerce (“Department”) published a notice of initiation of an administrative review of the antidumping duty order on stainless steel bar from India covering the period February 1, 2008, through January 31, 2009. See Initiation of Antidumping and Countervailing Duty Administrative Reviews and Requests for Revocation in Part, 74 FR 12310 (March 24, 2009). The preliminary results for this administrative review are currently due no later than October 31, 2009.

Extension of Time Limits for Preliminary Results

Section 751(a)(3)(A) of the Tariff Act of 1930, as amended (“the Act”), requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

Due to the complexity of the issues in this case, including issues regarding company affiliations, and the lengthy supplemental questionnaire responses pending, it is not practicable to complete the preliminary results of this review within the original time limit (i.e., October 31, 2009). Therefore, the Department is extending the time limit for completion of the preliminary results to no later than March 1, 2010,¹ in accordance with section 751(a)(3)(A) of the Act.

¹ 120 days from October 31, 2009, is February 28, 2010, which is a Sunday. However, Department practice dictates that where a deadline falls on a weekend, the appropriate deadline is the next business day. See Notice of Clarification: Application of “Next Business Day” Rule for Administrative Determination Deadlines Pursuant to the Act, 70 FR 24533 (May 10, 2005).

We are issuing and publishing this notice in accordance with sections 751(a)(3)(A) and 777(i)(1) of the Act.

Dated: October 23, 2009.
John M. Andersen,
Acting Deputy Assistant Secretary for Antidumping and Countervailing Duty Operations.

[FR Doc. E9-26110 Filed 10-28-09; 8:45 am]

BILLING CODE 3510-DS-P